SMALL BUSINESS ADMINISTRATION

[Declaration of Disaster #3296]

State of Maryland

Allegany County and the contiguous counties of Garrett and Washington in Maryland; Hampshire, Mineral, and Morgan Counties in West Virginia; and Bedford, Fulton, and Somerset Counties in Pennsylvania constitute a disaster area as a result of damages caused by flooding that occurred on September 11, 2000. Applications for loans for physical damage as a result of this disaster may be filed until the close of business on November 17, 2000 and for economic injury until the close of business on June 18, 2001 at the address listed below or other locally announced locations: U.S. Small Business Administration, Disaster Area 1 Office, 360 Rainbow Boulevard South, 3rd Floor, Niagara Falls, NY 14303.

The interest rates are:

| Percent
For Physical Damage:
HOMEOWNERS WITH CREDIT AVAILABLE ELSEWHERE | 7.375
HOMEOWNERS WITHOUT CREDIT AVAILABLE ELSEWHERE | 3.687
BUSINESSES WITH CREDIT AVAILABLE ELSEWHERE | 8.000
BUSINESSES AND NON-PROFIT ORGANIZATIONS WITHOUT CREDIT AVAILABLE ELSEWHERE | 4.000
OTHERS (INCLUDING NON-PROFIT ORGANIZATIONS) WITH CREDIT AVAILABLE ELSEWHERE | 6.750
For Economic Injury:
BUSINESSES AND SMALL AGRICULTURAL COOPERATIVES WITHOUT CREDIT AVAILABLE ELSEWHERE | 4.000

The numbers assigned to this disaster for physical damage are 329606 for Maryland, 329706 for West Virginia, and 329806 for Pennsylvania. For economic injury the numbers are 9I8500 for Maryland, 9I8600 for West Virginia, and 9I8700 for Pennsylvania.

(Catalog of Federal Domestic Assistance Program Nos. 59002 and 59008)

Dated: September 18, 2000.
Fred P. Hochberg,
Acting Administrator.

[FR Doc. 00-24816 Filed 9-26-00; 8:45 am]

BILLING CODE 8025-01-P